SOCIAL SECURITY ADMINISTRATION

[Docket No. SSA-2011-0087]

Supplemental Security Income and Homeless Individuals

AGENCY: Social Security Administration.

ACTION: Notice; Request for Comments.

SUMMARY: We are requesting information from the public regarding the unique needs of homeless Supplemental Security Income (SSI) recipients, particularly those who live in public emergency shelters for the homeless, in an effort to better understand and address their needs. The SSI program provides a minimum income level for aged, blind, or disabled persons who do not have income or resources above levels specified in the Social Security Act (Act).

DATES: To ensure that your comments are considered, we must receive them no later than March 12, 2012.

ADDRESSES: You may submit comments by any one of three methods—Internet, fax, or mail. Do not submit the same comments multiple times or by more than one method. Regardless of which of the following methods you choose, please state that your comments refer to Docket No. SSA-2011-0087 so that we may associate your comments with the correct document.

Caution: You should be careful to include in your comments only information that you wish to make publicly available. We strongly urge you not to include in your comments any personal information, such as Social Security numbers or medical information.

1. Internet: We strongly recommend that you submit your comments via the Internet. Please visit the Federal eRulemaking portal at http://www.regulations.gov. Use the Search function of the Web page to find docket number SSA-2011-0087. The system will issue you a tracking number to confirm your submission. It may take up to one week for your comment to be viewable.

2. Fax: Fax comments to (410) 966-2830.

3. Mail: Mail your comments to the Office of Regulations, Social Security Administration, 107 Altmeyer Building, 6401 Security Boulevard, Baltimore, Maryland 21235-6401.

Comments are available for public viewing on the Federal eRulemaking portal at http://www.regulations.gov, or in person, during regular business hours, by arranging with the contact person identified below.

FOR FURTHER INFORMATION CONTACT: Al Fatur, Office of Income Security Programs, Social Security Administration, 6401 Security Boulevard, Baltimore, Maryland 21235-6401, (410) 965-9855. For information on eligibility or filing for benefits, call our national toll-free number, 1-(800) 772-1213 or TTY 1-(800) 325-0778, or visit our Internet site, Social Security Online, at http://www.socialsecurity.gov.

SUPPLEMENTARY INFORMATION:

Background

The primary goal of the SSI program is to ensure a minimum level of income to people aged 65 or older, blind, or disabled, and who have limited income and resources. SSI serves an important role in the lives of its recipients, including those individuals who are homeless. According to the United States Department of Housing and Urban Development's (HUD) 2010 Annual Homeless Assessment Report, almost 650,000 people were homeless on a single night in January 2010, an increase of 1.1 percent over the same figure in January 2009.¹ HUD also reported that, in 2010, over 1.59 million people spent at least 1 night in an emergency shelter or transitional housing program; the vast majority of these individuals (nearly 80 percent) spent time only in an emergency shelter.²

¹ United States Department of Housing and Urban Development, The 2010 Annual Homeless Assessment Report to Congress, at 5, 7 (available at: http://www.hudhre.info/documents/2010HomelessAssessmentReport.pdf).

² Id., at 9, 10.

A homeless individual may receive SSI payments and (in some States) associated Medicaid coverage, as long as he or she meets all of the basic eligibility requirements for the SSI program. Subject to some exceptions, residents of public institutions generally are ineligible for SSI ³ because the institution in which they reside provides them with both housing and basic subsistence needs. One of these exceptions provides that individuals who reside in a public emergency shelter for the homeless may be eligible for up to 6 months of SSI payments in any 9-month period.⁴ By contrast, individuals who live in private shelters for the homeless are eligible to receive SSI payments with no limitation on the number of months if they meet all other SSI eligibility requirements.

³ See section 1611(e)(1)(A) of the Act, 42 U.S.C. 1382(e)(1)(A).

⁴ See section 1611(e)(1)(D) of the Act, 42 U.S.C. 1382(e)(1)(D) and 20 CFR 416.201 and 416.211(d).

Request for Comments

We are requesting information regarding the unique needs of the Nation's homeless population, particularly the needs of those individuals who are SSI recipients and who reside in public emergency shelters, in an effort to better understand and address those needs. We ask that, in preparing comments, you address questions such as:

1. What is your experience with SSI recipients in homeless shelters?

2. In your experience, do both public and private homeless shelters meet the needs of the homeless in the same way? If they differ in how they meet the needs of the homeless, how do they differ?

3. Do individuals rely on public emergency shelters exclusively to address short-term needs, or is transitioning out of such shelters into permanent housing becoming more difficult? Is the short-term assistance provided by public emergency shelters meeting the transitional needs of SSI recipients?

4. What specific needs do public emergency shelters meet?

5. Do public emergency shelters usually address the health care needs of individuals in the shelter? To what extent do individuals in public emergency shelters rely on Medicaid to meet their health care needs?

6. Do residents of public emergency shelters usually lose their Medicaid coverage if they stay longer than 6 consecutive months and their SSI is suspended?

7. Do current SSI eligibility rules present obstacles to homeless individuals who are in need of emergency shelter?

8. Do current SSI eligibility rules present obstacles to individuals who are trying to transition from a public emergency shelter to a permanent living arrangement?

9. After residing in a public emergency shelter for 6 months, do SSI recipients tend to remain there until they can transition to a permanent living arrangement or do they consider other options?

Please see the information under ADDRESSES earlier in this document for methods to give us your comments. We will not respond to your comments, but we will consider them as we review our policies and instructions to determine if we should revise or update them.

Michael J. Astrue,
Commissioner of Social Security.

[FR Doc. 2012-406 Filed 1-11-12; 8:45 am]

BILLING CODE 4191-02-P